DEPARTMENT OF HOMELAND SECURITY

Federal Emergency Management Agency

[Docket ID FEMA-2018-0018; OMB No. 1660-0131]

Agency Information Collection Activities: Submission for OMB Review; Comment Request; Threat and Hazard Identification and Risk Assessment (THIRA)—Stakeholder Preparedness Review (SPR) Reporting Tool

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 16, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Dante Randazzo, Supervisory Emergency Management Specialist, FEMA, National Preparedness Assessment Division, Dante.Randazzo@fema.dhs.gov.

SUPPLEMENTARY INFORMATION: This proposed information collection previously published in the Federal Register on March 13, 2018 at 83 FR 10864 with a 60 day public comment period. FEMA received a total of 17 public comments, 11 were anonymous public comments that were not relevant to the information collection.

Three commenters suggested that FEMA use the Tribal Consultation process for information collection 1660-0131. Two commenters stated that FEMA should not be placing additional unfunded requirements for Tribes to participate in the Tribal Homeland Security Grant Program (THSGP). One commenter stated that a Tribe should not be charged for FEMA's help and should be able to obtain help without any penalties. Two commenters stated that the Federal Government has a trust responsibility to meet its treaty obligations to all Tribes by providing for base level capability and capacities.

FEMA's Response: The information collection was not revised because of the comments as in 2017, FEMA involved Tribal partners in our discussions about the Threat and Hazard Identification Risk Assessment (THIRA)-Stakeholder Preparedness Review (SPR) methodology (ultimately FEMA received feedback from over 150 State, local, Tribal, and territorial representatives), and used their input to update the process. On April 10, 2018 and April 12, 2018, FEMA provided an overview of the updated THIRA/SPR methodology that included a detailed walkthrough of the specific requirements for THSGP recipients. Tribal participants had an opportunity to ask questions and share concerns about the updated methodology. On June 4, 2018, FEMA released a fact sheet outlining the requirements for THSGP recipients.

While THSGP recipients, generally 24 Tribes each year, will now have to complete the SPR in addition to the THIRA, FEMA has determined that the new Tribal requirements will not only likely decrease their reporting burden, but produce more useful information Tribes can use to support other emergency management activities. FEMA will also be able to use this information to improve the support it offers to Tribes. Previously, when THSGP recipients were required to complete only the THIRA, they had to address all 32 core capabilities. This year, as they complete the THIRA and SPR, THSGP recipients will only be required to address 8 of the 32 core capabilities. Therefore, Tribal Governments' estimated average burden per response (in hours) has decreased from 408 to 290 hours. Only THSGP recipients are required to complete the THIRA/SPR, but FEMA encourages other Tribes to do so as well.

FEMA is hosting three in-person technical assistance sessions this year to help communities understand and complete the THIRA/SPR, and offered invitational travel for grantees required to complete the THIRA/SPR. The technical assistance sessions themselves are free for communities to attend, with no admission fee, nor are there any penalties for obtaining FEMA's help.

FEMA is also developing tools, materials, and guidance to help communities learn and complete the new methodology. Communities requiring assistance with their THIRA/SPR can also reach out to their Regional Preparedness Analysts and Planning Officers or the THIRA/SPR helpdesk at FEMA-SPR@fema.dhs.gov. These materials and services are provided at no cost to Tribes or other communities. It is also important to note that completing the THIRA and SPR are allowable expenses under the grant award. FEMA acknowledges the inherent sovereignty of Tribal governments, the trust responsibility of the Federal Government, and the nation-to-nation relationship between the U.S. government and Tribal governments as established by the U.S. Constitution, statutes, treaties, court decisions, executive orders, regulations, and policies as a foundation of the Tribal Homeland Security Grant Program.

The purpose of this notice is to notify the public that FEMA will submit the information collection abstracted below to the Office of Management and Budget for review and clearance.

Collection of Information

Title: Threat and Hazard Identification and Risk Assessment (THIRA)—Stakeholder Preparedness Review (SPR) Reporting Tool.

Type of Information Collection: Revision of a currently approved information collection.

OMB Number: 1660-0131.

Form Titles and Numbers: FEMA Form 008-0-19 (THIRA), Threat and Hazard Identification and Risk Assessment (THIRA) Reporting Tool; FEMA Form 008-0-20 (SPR), Stakeholder Preparedness Review (SPR) Reporting Tool; FEMA Form 008-0-23, THIRA/SPR After-Action Call Questions.

Abstract: The assessment is structured by the 32 core capabilities from the 2015 National Preparedness Goal. States, Territories, urban areas, and Tribes provide information on capability targets, their current capability levels and capability gaps for each core capability. Respondent States, Territories, Tribes and urban areas gather the information and complete the THIRA and SPR following the “Comprehensive Preparedness Guide (CPG) 201, Third Edition.”

Affected Public: State, Local or Tribal Government.

Estimated Number of Respondents: 113.

Estimated Number of Responses: 113.

Estimated Total Annual Burden Hours: 84,414.

Estimated Total Annual Respondent Cost: $4,328,749.92.

Estimated Respondents' Operation and Maintenance Costs: $12,404,962.

Estimated Respondents' Capital and Start-Up Costs: $0.

Estimated Total Annual Cost to the Federal Government: $2,648,063.63.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Tammi Hines,
Privacy Branch Chief, Office of the Chief Administrative Officer, Mission Support, Federal Emergency Management Agency, Department of Homeland Security.

[FR Doc. 2018-15219 Filed 7-16-18; 8:45 am]

BILLING CODE 9111-46-P